DEPARTMENT OF TRANSPORTATION

Federal Transit Administration

Transfer of Federally Assisted Land or Facility

AGENCY: Federal Transit Administration, DOT.

ACTION: Notice of intent to transfer Federally assisted land or facility.

SUMMARY: 49 U.S.C. 5334(g), (formerly called section 12(k) of The Federal Transit Act), permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal agencies that the Missouri Department of Transportation intends to transfer an extension on the City of Sedalia's maintenance building, consisting of approximately 5,600 square feet, to the City of Sedalia, Missouri.

EFFECTIVE DATE: Any Federal agency interested in acquiring the facility must notify the FTA Kansas City Regional Office of its interest by March 9, 2000.

ADDRESSES: Interested parties should notify the Regional Office by writing to Mr. Mokhtee Ahmad, Regional Administrator, Federal Transit Administration, 901 Locust, Room 404, Kansas City, Missouri 64106.

FOR FURTHER INFORMATION CONTACT: Louise Lloyd, Transportation Program Specialist, Region 7, at 816/329-3938 or Ann Catlin, Real Estate Specialist, Office of Program Management at 202/366-1647.

SUPPLEMENTARY INFORMATION:

Background

49 U.S.C. Section 5334 (g) provides guidance on the transfer of capital assets. Specifically, if a recipient of FTA assistance decides an asset acquired under this chapter and at least in part with that assistance is no longer needed for the purpose for which it was acquired, then the Secretary of Transportation may authorize the recipient to transfer the asset to a local governmental authority to be used for a public purpose with no further obligation to the Government.

49 U.S.C. Section 5334(g) Determinations

The Secretary may authorize a transfer for a public purpose other than mass transportation only if the Secretary decides:

(A) The asset will remain in public use for not less than 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. 5334(g). Accordingly, FTA hereby provides notice of the availability of the facility further described below. Any Federal agency interested in acquiring the affected facility should promptly notify the FTA.

If no Federal agency is interested in acquiring the existing facility, FTA will make certain that the other requirements specified in 49 U.S.C. 5334(g)(1)(A) through (1)(D) are met before permitting the asset to be transferred.

Additional Description of Land or Facility

The subject building was built as a butler style extension onto the City of Sedalia's maintenance facility in 1983. The extension contains approximately 5,600 square feet and is 70 feet by 80 feet in dimension. Six vans can be stored inside the extension. There is no federal interest in the land and any interested party would need to negotiate a ground lease with the City of Sedalia.

Issued on: February 2, 2000.
Mokhtee Ahmad,
Regional Administrator.

[FR Doc. 00-2777 Filed 2-7-00; 8:45 am]

BILLING CODE 4910-57-P